DEPARTMENT OF ENERGY

Federal Energy Regulatory Commission

Combined Notice of Filings #1

Take notice that the Commission received the following electric corporate filings:

Docket Numbers: EC23-96-000.

Applicants: Long Island Solar Farm, LLC.

Description: Application for Authorization Under Section 203 of the Federal Power Act of Long Island Solar Farm, LLC.

Filed Date: 6/8/23.

Accession Number: 20230608-5178.

Comment Date: 5 p.m. ET 6/29/23.

Docket Numbers: EC23-97-000.

Applicants: Saint Solar, LLC, Saint Energy Storage II, LLC, Storey Energy Center, LLC.

Description: Joint Application for Authorization Under Section 203 of the Federal Power Act of Saint Solar, LLC, et al.

Filed Date: 6/12/23.

Accession Number: 20230612-5220.

Comment Date: 5 p.m. ET 7/3/23.

Take notice that the Commission received the following exempt wholesale generator filings:

Docket Numbers: EG23-194-000.

Applicants: Cascade Energy Storage, LLC.

Description: Cascade Energy Storage, LLC submits Notice of Self-Certification of Exempt Wholesale Generator Status.

Filed Date: 6/13/23.

Accession Number: 20230613-5096.

Comment Date: 5 p.m. ET 7/5/23.

Take notice that the Commission received the following electric rate filings:

Docket Numbers: ER23-2125-000.

Applicants: Saint Solar, LLC.

Description: § 205(d) Rate Filing: Filing of Co-Tenancy Shared Facilities Agreement to be effective 12/31/9998.

Filed Date: 6/12/23.

Accession Number: 20230612-5170.

Comment Date: 5 p.m. ET 7/3/23.

Docket Numbers: ER23-2126-000.

Applicants: Bruce Power Inc.

Description: Tariff Amendment: Notice of Cancellation of Market-Based Rate Tariff to be effective 6/13/2023.

Filed Date: 6/12/23.

Accession Number: 20230612-5173.

Comment Date: 5 p.m. ET 7/3/23.

Docket Numbers: ER23-2127-000.

Applicants: Public Service Company of New Mexico.

Description: Tariff Amendment: Notices of Cancellation to be effective 8/11/2023.

Filed Date: 6/12/23.

Accession Number: 20230612-5181.

Comment Date: 5 p.m. ET 7/3/23.

Docket Numbers: ER23-2129-000.

Applicants: Midcontinent Independent System Operator, Inc.

Description: § 205(d) Rate Filing: 2023-06-13_SA 4083 Duke Energy-Emerald Green GIA (J1481) to be effective 8/13/2023.

Filed Date: 6/13/23.

Accession Number: 20230613-5039.

Comment Date: 5 p.m. ET 7/5/23.

Docket Numbers: ER23-2130-000.

Applicants: Glover Creek Solar, LLC.

Description: Baseline eTariff Filing: Glover Creek MBR Tariff to be effective 8/13/2023.

Filed Date: 6/13/23.

Accession Number: 20230613-5058.

Comment Date: 5 p.m. ET 7/5/23.

Docket Numbers: ER23-2131-000.

Applicants: Midcontinent Independent System Operator, Inc.

Description: § 205(d) Rate Filing: 2023-06-13_SA 4081 Duke Energy-Brouilletts Creek Solar GIA (J1348) to be effective 8/13/2023.

Filed Date: 6/13/23.

Accession Number: 20230613-5061.

Comment Date: 5 p.m. ET 7/5/23.

Docket Numbers: ER23-2132-000.

Applicants: Arizona Public Service Company.

Description: § 205(d) Rate Filing: Service Agreement No. 411, 311SV 8me to be effective 5/30/2023.

Filed Date: 6/13/23.

Accession Number: 20230613-5070.

Comment Date: 5 p.m. ET 7/5/23.

Docket Numbers: ER23-2133-000.

Applicants: PGR 2022 Lessee 9, LLC.

Description: Baseline eTariff Filing: PGR 2022 Lessee 9 MBR Tariff to be effective 8/13/2023.

Filed Date: 6/13/23.

Accession Number: 20230613-5090.

Comment Date: 5 p.m. ET 7/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 13, 2023.
Debbie-Anne A. Reese,
Deputy Secretary.

[FR Doc. 2023-13069 Filed 6-16-23; 8:45 am]

BILLING CODE 6717-01-P